ENVIRONMENTAL PROTECTION AGENCY

[OPPT-2003-0004; FRL-7293-3]

Access to Confidential Business Information by Dyncorp Systems and Solutions, LLC

AGENCY: Environmental Protection Agency (EPA).

ACTION: Notice.

SUMMARY: EPA has authorized its prime contractor Dyncorp Systems and Solutions, LLC (Dyncorp) of Chantilly, VA and 10 of its subcontractors access to information which has been submitted to EPA under all sections of the Toxic Substances Control Act (TSCA). Some of the information may be claimed or determined to be Confidential Business Information (CBI).

DATES: Access to the confidential data submitted to EPA under all sections of TSCA occurred as a result of an approved waiver dated January 13, 2003, which requested granting Dyncorp and its subcontractors immediate access to all sections of TSCA CBI.

FOR FURTHER INFORMATION CONTACT: Barbara A. Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

Under GSA Contract Number GS00T99ALD0204, Task Order Number T0002AJMZ39, contractor Dyncorp, of 15000 Conference Center Drive, Chantilly, VA and its subcontractors Excel Management Systems, of 691 N. High Street, 2nd Floor, Columbus, OH; IBM, 700 Park Dr., Building 662, Research Triangle Park, NC; Institute for Disabilities Research and Training of 11323 Amherst Avenue, Silver Spring, MD; Kenrob, Inc. of 44084 Riverside Parkway, Suite 125, Leesburg, VA; Madision Research of 401 Wynn Drive, Huntsville, AL; OAO, 2222 East NC Highway 54, Beta Building, Suite 220, Durham, NC; Paloma Systems of 7002 Evergreen Court, Annandale, VA; PlanetGov of 14155 Newbrook Drive, Chantilly, VA; Superlative Technologies, Inc. of 8300 Greensboro Drive, Suite 425, McLean, VA; and Veridian of 1200 South Hayes Street, Suite 1000, Arlington, VA, will assist the Office of Pollution Prevention and Toxics (OPPTS) in computer operations and maintenance of TSCA CBI Computer Systems and Communications Network, linking CBI sites, located in Washington, DC. Dyncorp and its subcontractors will also assist in maintaining and operating the EPA CBI computer facilities located in Research Triangle Park, NC.

In accordance with 40 CFR 2.306(j), EPA has determined that under GSA Contract Number GS00T99ALD0204, Task Order Number T0002AJMZ39, Dyncorp and its subcontractors will require access to CBI submitted to EPA under all sections of TSCA to perform successfully the duties specified under the contract.

Dyncorp and its subcontractor personnel were given access to information submitted to EPA under all sections of TSCA. Some of the information may be claimed or determined to be CBI.

Dyncorp was granted a waiver on January 13, 2003. This waiver was necessary to allow Dyncorp and its subcontractors to assist EPA in the activities listed above.

EPA is issuing this notice to inform all submitters of information under all sections of TSCA that EPA may provide Dyncorp and its subcontractors access to these CBI materials on a need-to-know basis only. All access to TSCA CBI under this contract will take place at EPA Headquarters and at Research Triangle Park, NC facilities. No access will occur at the Research Triangle Park, NC facility until after it has been approved for the storage of TSCA CBI.

Dyncorp and its subcontractors will be authorized access to TSCA CBI at EPA Headquarters and Research Triangle Park, NC, in accordance with EPA TSCA Confidential Business Information Security Manual.

Clearance for access to TSCA CBI under this contract may continue until September 30, 2007.

Dyncorp and its subcontractor personnel will be required to sign nondisclosure agreements and will be briefed on appropriate security procedures before they are permitted access to TSCA CBI.

List of Subjects

Environmental protection, Confidential business information.

Dated: February 10, 2003.
Allan S. Abramson,
Director, Information Management Division, Office of Pollution Prevention and Toxics.

[FR Doc. 03-4251 Filed 2-25-03; 8:45 am]

BILLING CODE 6560-50-S